DEPARTMENT OF ENERGY

Federal Energy Regulatory Commission

[Project No. 2322-060]

Brookfield White Pine Hydro LLC; Notice of Intent To File License Application, Filing of Pre-Application Document (PAD), Commencement of Pre-Filing Process, and Scoping; Request for Comments on the Pad and Scoping Document, and Identification of Issues and Associated Study Requests; and Scoping Meeting

a. Type of Filing: Notice of Intent to File License Application for a New License and Pre-Application Document (PAD) (including a proposed process plan and schedule), pursuant to 18 CFR 5.6 of the Commission's regulations.

b. Project No.: 2322-060.

c. Date Filed: September 21, 2015.

d. Submitted By: Brookfield White Pine Hydro LLC (White Pine Hydro).

e. Name of Project: Shawmut Hydroelectric Project.

f. Location: On the Kennebec River in the towns of Skowhegan, Fairfield, Clinton, and Benton, within Kennebec and Somerset Counties, Maine. The project does not occupy United States lands.

g. Filed Pursuant to: 18 CFR part 5 of the Commission's Regulations.

h. Potential Applicant Contact: Frank Dunlap, Licensing Specialist, Brookfield White Pine Hydro LLC, 150 Main St., Lewiston, ME 04240; (207) 755-5603; Frank.Dunlap@brookfieldrenewable.com.

i. FERC Contact: Dustin Wilson at (202) 502-6528, or email at dustin.wilson@ferc.gov.

j. Cooperating agencies: Federal, state, local, and tribal agencies with jurisdiction and/or special expertise with respect to environmental issues that wish to cooperate in the preparation of the environmental document should follow the instructions for filing such requests described in paragraph o. below. Cooperating agencies should note the Commission's policy that agencies that cooperate in the preparation of the environmental document cannot also intervene. See 94 FERC ¶ 61,076 (2001).

k. With this notice, we are initiating informal consultation with: (1) The U.S. Fish and Wildlife Service and/or the National Marine Fisheries Service under section 7 of the Endangered Species Act and the joint agency regulations thereunder at 50 CFR, Part 402; and (2) the State Historic Preservation Officer, as required by section 106, National Historical Preservation Act, and the implementing regulations of the Advisory Council on Historic Preservation at 36 CFR 800.2.

l. With this notice, we are designating White Pine Hydro as the Commission's non-federal representative for carrying out informal consultation, pursuant to section 7 of the Endangered Species Act and section 106 of the National Historic Preservation Act.

m. Commission staff issued a Scoping Document 1 (SD1) on November 20, 2015, which also asked for study requests.

n. A copy of the PAD and SD1 are available for review at the Commission in the Public Reference Room, or may be viewed on the Commission's Web site (http://www.ferc.gov) using the “eLibrary” link. Enter P-2322 in the docket number field to access the document. For assistance, contact FERC Online Support at FERCONlineSupport@ferc.gov, or toll free at 1-866-208-3676, or for TTY, (202) 502-8659. A copy is also available for inspection and reproduction at the address in paragraph h.

Register online at http://www.ferc.gov/docs-filing/esubscription.asp to be notified via email of new filings and issuances related to this or other pending projects. For assistance, contact FERC Online Support.

o. With this notice, we are soliciting public comments on the PAD and the SD1, as well as on issues and associated study requests. All comments and study requests should be sent to the address above in paragraph h. In addition, all comments on the PAD and SD1, study requests, requests for cooperating agency status, and all communications to and from Commission staff related to the merits of the potential application must be filed with the Commission. Documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and five copies to: Kimberly D. Bose, Secretary, Federal Energy Regulatory Commission, 888 First Street NE., Washington, DC 20426.

All filings with the Commission must include on the first page, the project name (Shawmut Hydroelectric Project) and number (P-2322-060), and bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by March 21, 2016.

Study requests and comments on the PAD or SD1 that have been filed previously are part of the relicensing record and do not need to be refiled.

p. Although our current intent is to prepare an environmental assessment (EA), there is the possibility that an Environmental Impact Statement (EIS) will be required. Nevertheless, the scoping meetings held December 16, 2015, and the scoping meeting to be held February 9, 2016, will satisfy the NEPA scoping requirements, irrespective of whether an EA or EIS is issued by the Commission.

Scoping Meeting

Commission staff held scoping meetings December 16, 2015. The transcripts for the meetings are in the public record for this project, and are available for review through the Commission's Web site, using the “eLibrary” link.

Commission staff will hold a third scoping meeting in the vicinity of the project at the time and place noted below. All interested individuals and entities, particularly those who were unable to attend the December 16 scoping meetings, are invited to attend the meeting, and to assist staff in identifying particular study needs, as well as the scope of environmental issues to be addressed in the environmental document. The time and location of the meeting is as follows:

Evening Scoping Meeting

Date: Tuesday, February 9, 2016.

Time: 6:00 p.m.

Location: Skowhegan Community Center, 39 Poulin Dr., Skowhegan, Maine 04976.

Phone: (207) 474-6901.

As noted in item m. of this notice, SD1 was mailed to the individuals and entities on the Commission's mailing list. Copies of SD1 will be available at the scoping meeting, or may be viewed on the web at http://www.ferc.gov, using the “eLibrary” link. Follow the directions for accessing information in paragraph n. Based on all oral and written comments, a Scoping Document 2 (SD2) may be issued. SD2 may include a revised process plan and schedule, as well as a list of issues.

Meeting Objectives

At the scoping meeting, Commission staff will: (1) Initiate scoping of the issues; (2) review and discuss existing conditions and resource management objectives; (3) review and discuss existing information and identify preliminary information and study needs; and (4) review and discuss the process plan and schedule for pre-filing activities.

Meeting participants should come prepared to discuss their issues and/or concerns. Please review the PAD in preparation for the scoping meeting. Directions on how to obtain a copy of the PAD and SD1 are included in item n. of this notice.

Meeting Procedures

The meeting will be recorded by a stenographer. The transcript will be placed in the public record for the project.

Dated: January 21, 2016.
Nathaniel J. Davis, Sr.,
Deputy Secretary.

[FR Doc. 2016-01810 Filed 2-1-16; 8:45 am]

BILLING CODE 6717-01-P